DEPARTMENT OF THE INTERIOR

Fish and Wildlife Service

Availability of Comprehensive Conservation Plan for North Platte National Wildlife Refuge, Scottsbluff, NE

AGENCY: Fish and Wildlife Service, Interior.

ACTION: Notice of availability.

SUMMARY: Pursuant to the Refuge Improvement Act of 1997, the U.S. Fish and Wildlife Service has published the North Platte National Wildlife Refuge Comprehensive Conservation Plan and Summary. This Plan describes how the FWS intends to manage the North Platte NWR for the next 10-15 years.

ADDRESSES: A copy of the Plan or Summary may be obtained by writing to U.S. Fish and Wildlife Service, North Platte National Wildlife Refuge, 115 Railway Street, Suite C109, Scottsbluff, NE 69363-1346; or download from http://www.r6.fws.gov/larp.

FOR MORE INFORMATION CONTACT: Brad McKinney, U.S. Fish and Wildlife Service, North Platte NWR, 115 Railway Street, Suite C109, Scottsbluff, NE 69363-1346, phone 308/635-7851; fax 308/635-7841; E-Mail: brad_mckinney@fws.gov.

SUPPLEMENTARY INFORMATION: The 2,722-acre North Platte National Wildlife Refuge is located in the Nebraska Panhandle, within the Central Flyway and Kansas/Platte Rivers ecosystem, about eight miles north of the city of Scottsbluff, NE. This Refuge is superimposed over or adjoining three Bureau of Reclamation reservoirs consisting of Lake Minatare, Winters Creek Lake, and Lake Alice. The North Platte NWR was established by Executive Order in 1916 as a “preserve and breeding ground for native birds.” Since the Refuge is superimposed over Bureau lands, it remains subordinate to “Reclamation service uses.” Management of the North Platte NWR will be guided by its purpose to provide a preserve and breeding ground for migratory birds as well as to provide for the life requirements of other species of wildlife, subject to Bureau uses, and to provide compatible, high quality environmental education and wildlife-oriented recreational opportunities.

Dated: September 21, 2001.
John A. Blankenship,
Regional Director, Denver, Colorado.

[FR Doc. 01-28159 Filed 11-8-01; 8:45 am]

BILLING CODE 4310-55-P